SURFACE TRANSPORTATION BOARD

[Docket No. EP 670 (Sub-No. 1)]

Notice of Rail Energy Transportation Advisory Committee Meeting

AGENCY: Surface Transportation Board.

ACTION: Notice of Rail Energy Transportation Advisory Committee meeting.

SUMMARY: Notice is hereby given of a meeting of the Rail Energy Transportation Advisory Committee (RETAC), pursuant to the Federal Advisory Committee Act.

DATES: The meeting will be held on Thursday, May 29, 2025, at 9 a.m. E.T.

ADDRESSES: The meeting will be held at the Surface Transportation Board headquarters at 395 E Street SW, Washington, DC 20423.

FOR FURTHER INFORMATION CONTACT: Elizabeth McGrath at (202) 748-4566 or elizabeth.mcgrath@stb.gov. If you require an accommodation under the Americans with Disabilities Act for this meeting, please call (202) 245-0245 by May 15, 2025.

SUPPLEMENTARY INFORMATION: RETAC was formed in 2007 to provide advice and guidance to the Surface Transportation Board (Board), and to serve as a forum for discussion of emerging issues related to the transportation of energy resources by rail. Establishment of a Rail Energy Transp. Advisory Comm., EP 670 (STB served July 17, 2007). The purpose of this meeting is to facilitate discussions regarding issues including rail service, infrastructure planning and development, and effective coordination among suppliers, rail carriers, and users of energy resources. Potential agenda items for this meeting include a rail performance measures review, industry segment updates by RETAC members, and a roundtable discussion.

The meeting, which is open to the public, will be conducted in accordance with the Federal Advisory Committee Act, 5 U.S.C. Chapter 10; Federal Advisory Committee Management regulations, 41 CFR part 102-3; RETAC's charter; and Board procedures. Further communications about this meeting may be announced through the Board's website at www.stb.gov.

Written Comments: Members of the public may submit written comments to RETAC at any time. Comments should be addressed to RETAC, c/o Elizabeth McGrath, Surface Transportation Board, 395 E Street SW, Washington, DC 20423-0001 or elizabeth.mcgrath@stb.gov. Please submit any comments for review at the May 29, 2025 meeting by May 27, 2025, if possible.

Authority: 49 U.S.C. 1321, 11101, and 11121.

Decided: April 22, 2025.
By the Board, Scott M. Zimmerman, Acting Director, Office of Proceedings.
Stefan Rice,
Clearance Clerk.

[FR Doc. 2025-07272 Filed 4-25-25; 8:45 am]

BILLING CODE 4915-01-P